DEPARTMENT OF ENERGY

Federal Energy Regulatory Commission

[Docket No. RP00-502-000]

Granite State Gas Transmission, Inc.; Notice of Proposed Changes in FERC Gas Tariff

August 25, 2000.

Take notice that on August 21, 2000, Granite State Gas Transmission, Inc. (Granite State), tendered for filing as part of its FERC Gas Tariff, Third Revised Volume No. 1 the following revised tariff sheets to be effective March 27, 2000.

Third Revised Sheet No. 297

Second Revised Sheet No. 300

Second Revised Sheet No. 301

Granite State indicated that the purpose of the filing is to comply with the requirements of Order Nos. 637 and 637-A with respect to the revised rules governing capacity releases.

Any person desiring to be heard or to protest said filing should file a motion to intervene or a protest with the Federal Energy Regulatory Commission 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-22256 Filed 8-30-00; 8:45 am]

BILLING CODE 6717-01-M